DEPARTMENT OF HEALTH AND HUMAN SERVICES

Substance Abuse and Mental Health Services Administration

Statement of Organization, Functions, and Delegations of Authority

AGENCY: Substance Abuse and Mental Health Services Administration, HHS.

ACTION: Notice.

SUMMARY: The Substance Abuse and Mental Health Services Administration has modified its structure. This new organizational structure was approved by the Deputy Secretary of Health and Human Services on April 27, 2022 and became effective on May 13, 2022.

FOR FURTHER INFORMATION CONTACT: Robert T. Atanda, Ph.D., Director, Division of Management Services, Office of Management, Technology, and Operations, Substance Abuse and Mental Health Services Administration, Parklawn Building, Room 12E49, 5600 Fishers Lane, Rockville, MD, 20857 Phone: 240-276-2826

Part M of the Substance Abuse and Mental Health Services Administration (SAMHSA) Statement of Organization, Functions, and Delegations of Authority for the Department of Health and Human Services (DHHS) at 73, Number 147, pages 44274-44275, July 30, 2008, is amended to reflect the new functional statement for the Center for Substance Abuse Prevention. This notice identifies a new Office of Prevention Innovation (OPI). This change allows innovative prevention implementation. The changes are as follows:

Section M.20, Functions is amended as follows:

The functional statement for the Center for Substance Abuse Prevention is amended to name a new Office of Prevention Innovation. The functional statement for each office is as follows:

Office of Prevention Innovation

The Office of Prevention Innovation (OPI) will provide support across the Center to promote leading edge programming in the substance misuse prevention and mental health promotion fields. The focus of the OPI team is to drive innovative prevention programming by analyzing program data to uncover common barriers to program implementation, as well as innovative approaches, and quickly turn these into technical assistance to the field. Historically, program evaluations have focused on long-term, big picture evaluation questions. OPI seeks to use a quick-turnaround implementation science and technical assistance model to improve programs over the lifetime of the grant.

The substance misuse landscape in the country is rapidly changing. Substance misuse patterns are changing constantly, as has been seen during the pandemic. New, high-risk substances are emerging, such as synthetic drugs like Fentanyl, psilocybin, new and more potent strains of cannabis. Substance availability policies and practices are rapidly evolving, such as home delivery of alcohol, cannabis legalization, and fake drugs being sold on social media platforms. In addition, the stresses and strains on the Nation's population, including health and climate-related emergencies and disasters and related economic and social upheavals. Together, these factors demand that CSAP modernize its approach to supporting the substance use prevention field, in a way that is data-driven, and more oriented toward rapid-response support to the States, Tribes and communities implementing substance misuse prevention and health promotion activities in the country. The OPI team gives CSAP and SAMSHA the ability to lead this effort.

To accomplish this, the OPI team will work closely with CSAP's two divisions which provide oversight to a portfolio of nearly 1000 State, Tribal and community public health grants, to conduct year-round program analysis, and oversee flexible, rapid-response technical assistance mechanisms to address challenges as they arise, and amplify emerging innovations and best practices.

Office of the Director (MP1)

(1) Provides leadership, coordination, and direction in the development and implementation of CSAP goals and priorities, and serves as the focal point for the Department's efforts on substance abuse and HIV/AIDS prevention; (2) plans, directs, and provides overall administration of the programs and activities of CSAP; (3) provides leadership in the identification of new and emerging issues, and the integration of primary prevention, early intervention, re-entry and relapse prevention, knowledge and information in the major CSAP programs; (4) manages special projects and external liaison activities; and (5) directs CSAP's overall human resource activities and monitors the conduct of equal employment opportunity activities for CSAP.

Office of Program Analysis and Coordination (MPA)

(1) Supports the Center's implementation of programs and policies by providing guidance in the administration, analysis, planning, and coordination of the Center's programs, consistent with agency priorities; (2) manages the Center's participation in the agency's policy, planning, budget formulation and execution, program development and clearance, and internal and external requests, including strategic planning, identification of program priorities, development of Healthy People 2010, and other agency-wide and departmental planning activities; (3) provides support for the Center Director; coordinates staff development activities, analyzes the impact of proposed legislation and rule-making; supports administrative functions, including human resource actions; conducts special studies; serves as liaison for special populations/initiatives including White House Executive Orders for specific minority populations; (4) manages CSAP's National Advisory Council activities; and (5) coordinates CSAP's evaluation program.

Division of Primary Prevention (MPJ)

The Division of Primary Prevention is responsible for carrying out the Center's agenda to increase capacity and improve accessibility of effective substance abuse prevention across States, American Indian/Alaska Native Tribes, and tribal organizations. The Division provides most program services through two regional teams. The Division (1) plans, develops and administers programs to implement comprehensive and effective State substance abuse prevention systems and other related health promotion systems; (2) promotes and establishes comprehensive, long-term State and tribal substance abuse prevention/intervention policies, programs, practices, and support activities to address substance abuse and related emerging issues; (3) administers the prevention set-aside of the Substance Abuse Prevention and Treatment (SAPT) Block Grant; (4) collaborates with other units in the application of SAMHSA's Strategic Prevention Framework with States and Tribes; (5) develops funding announcements, ensures coordination with grant management systems, and administers national discretionary grant programs, such as the Strategic Prevention Framework State Incentive grant (SPF SIG) program; (6) administers the Synar regulations governing youth access to tobacco products; (7) works across CSAP and SAMHSA to promote inter/intra-agency collaboration at the Federal, State and tribal levels; serves as the liaison for CSAP interactions with State agency and National Prevention Network officials on State issues; monitors State progress in achieving National Outcome Measures and plans for associated technical assistance; monitors compliance with Block Grant and other Federal requirements.

Division of Targeted Prevention (MPH)

The Division of Targeted Prevention is responsible for carrying out the Center's agenda to increase capacity and improve accessibility of effective substance abuse prevention services across communities. This includes management of all CSAP grants targeted to communities and non-profit organizations, such as Drug Free Communities, HIV/AIDS, methamphetamine, and conference grants. The Division is organized into three branches with responsibility to (1) plan, develop, and administer programs of regional and national significance to enhance comprehensive and effective community substance abuse prevention systems, including disaster relief programs; (2) promote and establish comprehensive substance abuse prevention/intervention policies, programs, practices, and support services to address substance abuse and emerging issues; (3) collaborate with other units in the application of SAMHSA's Strategic Prevention Framework in community prevention systems; (4) develop funding announcements, ensure coordination with grant management systems, and administer discretionary grant programs; (5) work across SAMHSA to promote interagency collaboration; (6) monitor grantee and contractor progress in achieving National Outcome Measures, and plan associated technical assistance; and (7) monitor compliance with all Federal requirements.

Division of Prevention Communications and Public Engagement (MPI)

The Division of Prevention Communications and Public Engagement provides leadership and guidance in the planning, development, and implementation of programs and prevention concepts across the Center and is responsible for carrying out the Center's health promotion and public education activities. The Division's responsibilities include (1) promotion and implementation of key prevention concepts across all programs and activities of the Center, including the Strategic Prevention Framework, project sustainability, and coordination/integration of community and State programs; (2) management of technical assistance contracts that support all of the Center's prevention programs; (3) coordination of CSAP's GPRA and National Outcome Measure activities, including liaison with offices responsible for data collection; (4) analysis of data related to program operations and assistance to other CSAP components in employing data to improve program performance; (5) analysis, development, and integration of information, including evidence-based practices and NREPP programs, necessary to improve State and community prevention service delivery; (6) leadership within SAMHSA in the development, training and use of geographic information system (GIS) resources to improve policy development and program operations; (7) collaboration with Federal, State, and local governments to promote the adoption of evidence-based prevention programs and practices and develop innovative strategies to address emerging substance abuse issues; (8) initiation, development, and coordination of efforts to support workforce development for substance abuse prevention professionals; (9) leadership to the Center in the development of health promotion and education products, materials, messages, publications, and information technologies; (10) collaboration with other Federal and private sector prevention initiatives in developing and disseminating targeted prevention material, including the SAMHSA Office of Communications; (11) development and continual update of prevention material for use by external prevention partners.

Division of Workplace Programs (MPE)

(1) Establishes goals and objectives in the administration of a national program designed to promote substance abuse free workplaces; (2) provides leadership and oversight to assure that effective employee assistance programs are developed and evaluated to prevent substance abuse in the workplace; (3) develops, implements, and evaluates employee education/prevention programs, access to counseling, early intervention, and referral treatment/rehabilitation, and support services for employees following treatment/rehabilitation; (4) advises, coordinates, and certifies activities related to the implementation and administration of federal drug free workplace programs, convenes the Drug Testing Advisory Board, and conducts surveys on federal programs; (5) advises other SAMHSA components and HHS regarding workplace programmatic directions and actions and enters into collaborative arrangements with other federal agencies; (6) collaborates in the development and implementation of substance abuse prevention and early intervention strategies for public/private sector use at the State and community levels, and operates the Workplace Hotline Contract as a means for dissemination, outreach and technical assistance to businesses, States and communities; (7) provides technical assistance to facilitate national training and certification programs for substance abuse professionals and practitioners, provides staff expertise in training and credentialing standards for medical review officers (MROs) and the Department of Transportation mandated substance abuse professionals; (8) provides leadership within SAMHSA and the field in developing and disseminating knowledge in workplace violence related to substance abuse, including risk factors in the workplace and community and the role of the workplace as a substance abuse and violence prevention agent within the community and family; and (9) evaluates managed care and other treatment provider practices as they are applied in the workplace.

Delegation of Authority

All delegations and re-delegations of authority to officers and employees of SAMHSA which were in effect immediately prior to the effective date of this reorganization shall continue to be in effect pending further re-delegations, provided they are consistent with this reorganization.

This delegation of authority is effective immediately.

Dated: May 26, 2022.
Xavier Becerra,
Secretary, U.S. Department of Health and Human Services.

[FR Doc. 2022-11748 Filed 5-31-22; 8:45 am]

BILLING CODE 4162-20-P